DEPARTMENT OF TRANSPORTATION

Federal Motor Carrier Safety Administration

[Docket No. FMCSA-2005-21603]

Commercial Driver's License Standards; Exemption Applications; School Bus Endorsement

AGENCY: Federal Motor Carrier Safety Administration (FMCSA), DOT.

ACTION: Notice of applications for exemption; request for comments.

SUMMARY: FMCSA proposes to grant a 2-year exemption from the knowledge and skills tests required to obtain a school bus endorsement to a commercial driver's license (CDL) under 49 CFR 383.123. The exemption would be limited to school bus drivers from 11 States who passed equivalent tests before September 30, 2002.

DATES: Submit comments on or before August 15, 2005.

ADDRESSES: You may submit comments identified by DOT DMS Docket Number FMCSA (insert docket number) by any of the following methods:

• Web site: http://dms.dot.gov. Follow the instructions for submitting comments on the DOT electronic docket site.

• Fax: 1-202-493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov and/or Room PL-401 on the plaza level of the Nassif Building, 400 Seventh Street, SW., Washington, DC, between 9 a.m. and 5 p.m., Monday through Friday, except Federal holidays.

Privacy Act: Anyone may search the electronic form of all comments received into any of DOT's dockets by the name of the individual submitting the comment (or of the person signing the comment, if submitted on behalf of an association, business, labor union, or other entity). You may review DOT's complete Privacy Act Statement in the Federal Register (65 FR 19477, Apr. 11, 2000). This statement is also available at http://dms.dot.gov.

FOR FURTHER INFORMATION CONTACT: Mr. Michael Lamm, Chief, State Programs Division (MC-ESS), (202) 366-6830, FMCSA, 400 Seventh Street, SW., Washington, DC 20590.

SUPPLEMENTARY INFORMATION:

Background

On December 9, 1999, the President signed the Motor Carrier Safety Improvement Act (MCSIA) (Pub. L. 106-159, Stat. 1748). The legislation included 15 new provisions aimed at improving the overall effectiveness of the Commercial Driver's License (CDL) program.

Section 214 of MCSIA directed the agency to establish a special CDL endorsement for drivers of school buses. The endorsement must, at a minimum include:

1. A driving skills test in a school bus; and

2. A knowledge test that addresses proper safety procedures for

(A) loading and unloading children

(B) using emergency exits

(C) traversing highway rail grade crossings.

The final rule implementing all 15 CDL provisions was published on July 31, 2002 [67 FR 49742] and became effective on September 30, 2002. Sec. 214 was addressed in 49 CFR 383.123.

Under 49 CFR 384.301(b), States are allowed up to 3 years after the effective date to implement the new CDL requirements. By September 30, 2005, each State must pass enabling legislation and actively enforce the new provisions, including the school bus (“S”) endorsement. States that fail to meet the deadline will be out of substantial compliance with 49 U.S.C. 31311(a) and thus subject to the penalties specified in 49 CFR part 384, subpart D.

In 2002, eleven States already had requirements for a CDL school bus endorsement (Alabama, Delaware, Illinois, Minnesota, Ohio, Pennsylvania, South Carolina, South Dakota, Tennessee, Virginia, and Wisconsin). These States required applicants to take a skills test in a school bus of the same vehicle group as the vehicle the applicant intended to drive. They also used school bus knowledge tests that incorporated the three topics required by the new FMCSA regulation:

1. Loading and unloading children, including the safe operation of stop signals, external mirror systems, flashing lights and other warning devices and passenger safety devices required for school buses by State or Federal law or regulation.

2. Emergency exits and procedures for safely evacuating passengers in an emergency.

3. State and Federal laws and regulations related to safely traversing highway rail grade crossings.

FMCSA determined that these programs met or exceeded the Federal requirement. Drivers who passed the school bus endorsement tests required by any of these States on or after September 30, 2002, the effective date of the Federal rule could be issued an “S” endorsement.

These States, however, may have assumed that drivers who passed the State knowledge and skills tests for the school bus endorsement before September 30, 2002, would in fact have the knowledge test requirement waived as well. That cannot be done under the Federal rule. The Federal rule looks forward in time, not backward. Every driver renewing a CDL with a school bus endorsement on or after September 30, 2002, must pass the tests required by 49 CFR 383.123 or a compatible State regulation. Because the Federal rule is not retroactive, the agency's recognition that certain State regulations are equivalent does not retroactively validate the results of earlier tests conducted under those regulations. Therefore, drivers who passed compatible State tests before September 30, 2002 must pass the tests required by 49 CFR 383.123.

Once these States understood the requirements of the FMCSA rule, it became clear that thousands of school bus drivers who had passed the State tests before September 30, 2002, but had not been tested when they renewed their CDL's with a school bus endorsement after that date, would have to be re-tested before September 30, 2005, if the States were to remain in substantial compliance under 49 CFR Part 384.

Application for an Exemption

On behalf of the affected school bus drivers, the States identified in this notice have requested a 2-year exemption from § 383.123 due to the large number of drivers who would have to be re-tested before September 30, 2005. The estimated number of drivers that would have to be re-tested are as follows:

Alabama—16,000

Delaware—3,500

Illinois—19,821

Minnesota—15,000

Ohio—47,000

Pennsylvania—8,200

South Carolina—10,159

South Dakota—5,000

Tennessee—14,700

Virginia—12,977

Wisconsin—18,000

Since the tests in use in these States have been determined to meet or exceed the requirements of 49 CFR 383.123 as of the effective date of the rule (September 30, 2002), FMCSA believes the terms and conditions of the exemption would achieve a level of safety equivalent to that provided by complying with the current Federal requirement on September 30, 2005. The State petitions for the exemption are in the public docket.

Proposed Terms and Conditions for the Exemption

This exemption would grant temporary relief from the testing requirements under 49 CFR 383.123 until September 30, 2007 to the school bus drivers of Alabama, Delaware, Illinois, Minnesota, Ohio, Pennsylvania, South Carolina, South Dakota, Tennessee, Virginia, and Wisconsin who were issued a school bus endorsement prior to September 30, 2002. All of these school bus drivers must be tested in accordance with the requirements in 49 CFR 383.123 by September 30, 2007.

Request for Comments

In accordance with 49 U.S.C. 31315 and 31136(e), FMCSA is requesting public comment from all interested persons on the agency's intent to grant school bus drivers in the States of Alabama, Delaware, Illinois, Minnesota, Ohio, Pennsylvania, South Carolina, South Dakota, Tennessee, Virginia, and Wisconsin who were issued a school bus endorsement prior to September 30, 2002 an exemption from the testing requirements of 49 CFR 383.123 until September 30, 2007. All comments received before the close of business on the comment closing date indicated at the beginning of this notice will be considered and will be available for examination in the docket at the location listed under the address section of this notice. Comments received after the comment closing date will be filed in the public docket and considered to the extent practicable, but FMCSA may grant or deny the exemption at any time after the close of the comment period. In addition to late comments, FMCSA also will continue to file in the public docket any relevant information that becomes available after the comment closing date. Interested persons should continue to examine the public docket for new material.

Authority: 49 U.S.C. 31136 and 31315; 49 CFR 1.73.

Issued on: July 7, 2005.
Annette M. Sandberg,
Administrator.

[FR Doc. 05-13869 Filed 7-13-05; 8:45 am]

BILLING CODE 4910-EX-P